Proclamation 7646 of February 1, 2003

Honoring the Memory of the Astronauts Aboard Space Shuttle Columbia

By the President of the United States of America

A Proclamation

As a mark of respect for Rick Douglas Husband, William C. McCool, Laurel Blair Salton Clark, Kalpana Chawla, Michael P. Anderson, David M. Brown, and Ilan Ramon who gave their lives during the mission of STS-107 aboard the Space Shuttle Columbia on February 1, 2003, I hereby order, by the authority vested in me as President of the United States of America by the Constitution and the laws of the United States of America, that the flag of the United States shall be flown at half-staff at the White House and upon all public buildings and grounds, at all military posts and naval stations, and on all naval vessels of the Federal Government in the District of Columbia and throughout the United States and its Territories and possessions through Wednesday, February 5, 2003. I also direct that the flag shall be flown at half-staff for the same length of time at all United States embassies, legations, consular offices, and other facilities abroad, including all military facilities and naval vessels and stations.

IN WITNESS WHEREOF, I have hereunto set my hand this first day of February, in the year of our Lord two thousand three, and of the Independence of the United States of America the two hundred and twenty-seventh.

B

[FR Doc. 03-3008

Filed 2-4-03; 11:04 am]

Billing code 3195-01-P